DEPARTMENT OF COMMERCE

[I.D. 011402B ]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Survey of Intent and Capacity to Harvest and Process Fish and Shellfish (Northwest Region).

Form Number(s): None.

OMB Approval Number: 0648-0243.

Type of Request: Regular submission.

Burden Hours: 3.

Number of Respondents: 40.

Average Hours Per Response: 5 minutes.

Needs and Uses: A telephone survey is conducted of fishery processors, joint venture companies, and fishermen's trade associations in the Pacific Northwest to determine the tonnage of fish processed or harvested, and their estimated tonnage for the next year. The information is used to help form allocations of groundfish quotas.

Affected Public: Business and other for-profit organizations.

Frequency: Annually.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Office.

[FR Doc. 02-1273 Filed 1-16-02; 8:45 am]

BILLING CODE 3510-22-S